NUCLEAR REGULATORY COMMISSION

Review Standard for Extended Power Uprates; Availability of Review Standard

AGENCY: Nuclear Regulatory Commission (NRC).

ACTION: Notice of issuance of draft review standard.

SUMMARY: The NRC is announcing the availability of draft Office of Nuclear Reactor Regulation Review Standard (RS)-001, “Review Standard for Extended Power Uprates,” dated December 2002, for interim use and public comment.

DATES: Submit comments by March 31, 2003. Comments received after this date will be considered if it is practical to do so, but the Commission is able to ensure consideration only for comments received on or before this date.

ADDRESSES: Submit comments to Mohammed A. Shuaibi, Senior Project Manager, U.S. Nuclear Regulatory Commission, Mailstop O-8H4a, Washington, DC 20555-0001. Comments may be delivered to 11555 Rockville Pike, Rockville, Maryland, between 7:30 a.m. and 4:15 p.m. on Federal workdays.

This document is available for public inspection at the NRC's Public Document Room (PDR), located at One White Flint North, Public File Area O1 F21, 11555 Rockville Pike, Rockville, Maryland, and from the Agencywide Documents Access and Management System's (ADAMS) Public Electronic Reading Room on the Internet at the NRC Website, http://www.nrc.gov/reading-rm/adams.html, using the Accession No. ML023540562, and at the NRC's Website, http://www.nrc.gov/reactors/operating/licensing/power-uprates.html. Persons who do not have access to ADAMS or who encounter problems accessing the document in ADAMS should contact the NRC PDR Reference staff by telephone at 1-800-397-4209, 301-415-4737, or by e-mail to pdr@nrc.gov.

FOR FURTHER INFORMATION CONTACT: Mohammed A. Shuaibi, Senior Project Manager, Section 1, Project Directorate III, Division of Licensing Project Management, Office of Nuclear Reactor Regulation, by telephone at 301-415-2859 or e-mail at mas4@nrc.gov.

SUPPLEMENTARY INFORMATION: The process of increasing the licensed power level at a commercial nuclear power plant is called a “power uprate.” Power uprates can be classified into three categories based on the magnitude of the power increase and the methods used to achieve the increase. Measurement uncertainty recapture power uprates result in power level increases that are less than 2 percent and are achieved by implementing enhanced techniques for calculating reactor power. Stretch power uprates typically result in power level increases that are up to 7 percent and do not generally involve major plant modifications. Extended power uprates (EPUs) result in power level increases that are greater than stretch power uprates, have been approved for increases as high as 20 percent, and usually require significant modifications to major plant equipment. Draft RS-001 is applicable to EPUs.

Draft RS-001 establishes standardized review guidance for the staff's reviews of EPU applications to enhance the consistency, quality, and completeness of the reviews. It serves as a tool for the staff's use when processing EPU applications in that it provides detailed references to various NRC documents containing specific information related to the areas of review.

Draft RS-001 also makes available to licensees the guidance used by the staff for reviewing EPU applications. Making this information available should help licensees prepare complete EPU applications that address the topics required for the staff's review. By addressing the areas in the review standard, a licensee could minimize the staff's need for requests for additional information and thereby improve the efficiency of the staff's review.

Dated in Rockville, Maryland, this 24th day of December, 2002.
For the Nuclear Regulatory Commission.
Ledyard B. Marsh,
Deputy Director, Division of Licensing Project Management, Office of Nuclear Reactor Regulation.

[FR Doc. 02-32999 Filed 12-30-02; 8:45 am]

BILLING CODE 7590-01-P